FEDERAL COMMUNICATIONS COMMISSION

Sunshine Act Meeting: FCC To Hold Open Commission Meeting Friday, August 1, 2008

July 25, 2008.

The Federal Communications Commission will hold an Open Meeting on the subjects listed below on Friday, August 1, 2008, which is scheduled to commence at 10 a.m. in Room TW-C305, at 445 12th Street, SW., Washington, DC.

Item No. | Bureau | Subject
1 | Wireline Competition | Title: Formal Complaint of Free Press and Public Knowledge Against Comcast Corporation for Secretly Degrading Peer-to-Peer Applications; Broadband Industry Practices (WC Docket No. 07-52).
|  | Summary: The Commission will consider a Memorandum Opinion and Order addressing a complaint and other filings concerning Comcast's network management practices.
2 | Office of Managing Director | Title: Assessment and Collection of Regulatory Fees for Fiscal Year 2008 (MD Docket No. 08-65, RM-11312).
|  | Summary: The Commission will consider a Report and Order and Further Notice of Proposed Rulemaking pursuant to section 9 of the Communications Act of 1934, as amended, to recover the regulatory costs associated with the Commission's enforcement, policy and rulemaking, user information, and international activities for Fiscal Year 2008 and to seek comment on changes, if any, to the regulatory fee assessment process in the future.
3 | Wireless Tele-Communications | Title: Applications of Cellco Partnership d/b/a Verizon Wireless and Rural Cellular Corporation for Consent to Transfer Control of Licenses, Authorizations, and Spectrum Manager Leases and Petitions for Declaratory Ruling (WT Docket No. 07-208).
|  | Summary: The Commission will consider a Memorandum Opinion and Order and Declaratory Ruling regarding the applications of Cellco Partnership d/b/a Verizon Wireless and Rural Cellular Corporation (“RCC”) for consent to the transfer of control of licenses, authorizations, and spectrum manager leasing arrangements held by RCC and its subsidiaries from RCC to Verizon Wireless and the petitions for declaratory ruling filed pursuant to section 310(b)(4) requesting that the Commission find that it is in the public interest to extend to RCC and its subsidiaries the foreign ownership ruling previously issued to Verizon Wireless for foreign ownership in excess of 25 percent.

The meeting site is fully accessible to people using wheelchairs or other mobility aids. Sign language interpreters, open captioning, and assistive listening devices will be provided on site. Other reasonable accommodations for people with disabilities are available upon request. Include a description of the accommodation you will need. Also include a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. E8-17659 Filed 7-30-08; 8:45 am]

BILLING CODE 6712-01-P